DEPARTMENT OF ENERGY

Agency Information Collection Extension

AGENCY: U.S. Department of Energy.

ACTION: Notice and request for OMB review and comment.

SUMMARY: The Department of Energy (DOE) has submitted an information collection request to OMB for extension under the provisions of the Paperwork Reduction Act of 1995. The information collection requests a three-year extension of its Davis-Bacon Semi-annual Labor Compliance Report collection. The collection requests information from certain financial assistance grantees, loan guarantee and loan borrowers, and the Department of Energy Management and Operation (M&O) and Facilities Management Contractors for contract administration and management oversight. The information collection is necessary to allow DOE to comply with a reporting requirement placed on all Federal agencies administering programs subject to the Davis-Bacon Act wage provisions. Department of Labor regulation at 29 CFR 5.7(b) requires all Federal agencies administering programs subject to the Davis-Bacon Act wage provisions to submit to the Department of Labor a semi-annual compliance and enforcement report. In order for the Department of Energy (DOE) to comply with this reporting requirement, it must collect information from certain financial assistance grantees, Loan and Loan Guarantee Borrowers, DOE M&O contractors, and DOE Facilities Management contractors that administer DOE programs subject to Davis-Bacon Act requirements. DOE will ask each of these entities to report to DOE the information it is required to report to DOL on a semi-annual (every 6 months) basis. DOE must ultimately report all this information in a report to DOL, including information on the number of Davis-Bacon Act compliance and enforcement investigations conducted and whether violations were found.

DATES: Comments regarding this collection must be received on or before January 2, 2015. If you anticipate that you will be submitting comments, but find it difficult to do so within the period of time allowed by this notice, please advise the OMB Desk Officer of your intention to make a submission as soon as possible. The Desk Officer may be telephoned at 202-395-4650.

ADDRESSES: Written comments should be sent to the:

DOE Desk Officer, Office of Information and Regulatory Affairs, Office of Management and Budget, New Executive Office Building, Room 10102, 735 17th Street NW., Washington, DC 20503.

And to:

Eva M. Auman, GC-63, U.S. Department of Energy, 1000 Independence Avenue, SW., Washington, DC 20585, Or by fax at 202-586-0971; or by email to eva.auman@hq.doe.gov.

FOR FURTHER INFORMATION CONTACT: Requests for additional information or copies of the information collection instrument and instructions should be directed to:

Eva M. Auman, Attorney-Advisor (Labor), GC-63, U.S. Department of Energy, 1000 Independence Avenue, SW., Washington, DC 20585, or by fax at 202-586-0971 or by email to eva.auman@hq.doe.gov.

The current collection instrument is available for review at the following Web site: http://www.energy.gov/gc/services/technology-transfer-and-procurement/office-assistant-general-counsel-labor-and-pension.

SUPPLEMENTARY INFORMATION: This information collection request contains: (1) OMB No. 1910-5165; (2) This information collection originally provided for Recovery Act grantees receiving grants from the DOE Office of Weatherization and Intergovernmental Programs to submit their reports via the PAGE System, however, those grants are now closed and the PAGE System is no longer available; (3) Type of Request: Extension; (4) Purpose: To provide the information necessary to facilitate DOE compliance with a reporting requirement placed on all Federal agencies administering programs subject to the Davis-Bacon Act wage provisions found at 29 CFR 5.7(b); (5) Annual Estimated Number of Respondents: 75; (6) Annual Estimated Number of Total Responses: 150; (7) Annual Estimated Number of Burden Hours: 2 per respondent for total of 300 hours per year; (8) Annual Estimated Reporting and Recordkeeping Cost Burden: $0.00

Statutory Authority: 42 U.S.C. 7254, 7256.

Issued in Washington, DC on: November 26, 2014.
Jean S. Stucky,
General Counsel for Labor and Pension Law, Office of the General Counsel.

[FR Doc. 2014-28454 Filed 12-2-14; 8:45 am]

BILLING CODE 6450-01-P